DEPARTMENT OF LABOR

Mine Safety and Health Administration

30 CFR Parts 56, 57, 60, 70, 71, 72, 75, and 90

[Docket No. MSHA-2023-0001]

RIN 1219-AB36

Lowering Miners' Exposure to Respirable Crystalline Silica and Improving Respiratory Protection

AGENCY: Mine Safety and Health Administration, Department of Labor.

ACTION: Proposed rule; extension of comment period.

SUMMARY: The Mine Safety and Health Administration (MSHA) is extending the comment period on the proposed rule entitled Lowering Miners' Exposure to Respirable Crystalline Silica and Improving Respiratory Protection published in the Federal Register on July 13, 2023, with an established public comment period that is scheduled to end on August 28, 2023. In response to requests for additional time to develop and submit comments on the proposed rule, MSHA is extending the comment period for an additional 15 days—that is, from August 28, 2023, to September 11, 2023.

DATES: The comment period for the proposed rule that was published on July 13, 2023, at 88 FR 44852 is extended. All comments must be submitted by midnight Eastern Time on September 11, 2023.

ADDRESSES: All submissions must include RIN 1219-AB36 or Docket No. MSHA-2023-0001. You should not include personal or proprietary information that you do not wish to disclose publicly. If you mark parts of a comment as “business confidential” information, MSHA will not post those parts of the comment. Otherwise, MSHA will post all comments without change, including any personal information provided. MSHA cautions against submitting personal information.

You may submit comments and informational materials, clearly identified by RIN 1219-AB36 or Docket Id. No. MSHA-2023-0001, by any of the following methods:

1. Federal eRulemaking Portal: https://www.regulations.gov. Follow the online instructions for submitting comments for MSHA-2023-0001.

2. Email: zzMSHA-comments@dol.gov. Include “RIN 1219-AB36” in the subject line of the message.

3. Regular Mail: MSHA, Office of Standards, Regulations, and Variances, 201 12th Street South, Suite 4E401, Arlington, Virginia 22202-5450.

4. Hand Delivery or Courier: MSHA, Office of Standards, Regulations, and Variances, 201 12th Street South, Suite 4E401, Arlington, Virginia, between 9:00 a.m. and 5:00 p.m. Monday through Friday, except Federal holidays. Before visiting MSHA in person, call 202-693-9440 to make an appointment.

Docket. For access to the docket to read comments, hearing transcripts, supporting materials, and other documents, go to https://www.regulations.gov. The docket can also be reviewed in person at MSHA, Office of Standards, Regulations, and Variances, 201 12th Street South, Arlington, Virginia, between 9 a.m. and 5 p.m. Monday through Friday, except Federal holidays. Before visiting MSHA in person, call 202-693-9440 to make an appointment.

Email Notification. To subscribe to receive an email notification when MSHA publishes rulemaking documents in the Federal Register, go to https://public.govdelivery.com/accounts/USDOL/subscriber/new.

FOR FURTHER INFORMATION CONTACT: S. Aromie Noe, Director, Office of Standards, Regulations, and Variances, MSHA, at: silicaNPRM@dol.gov (email); 202-693-9440 (voice); or 202-693-9441 (facsimile). These are not toll-free numbers.

SUPPLEMENTARY INFORMATION: On July 13, 2023, MSHA published in the Federal Register the proposed rule entitled Lowering Miners' Exposure to Respirable Crystalline Silica and Improving Respiratory Protection (88 FR 44852). The proposed rule is available at the Federal eRulemaking Portal, https://regulations.gov, and at MSHA's website, https://www.msha.gov. The proposed rule would amend MSHA's existing standards to better protect miners against occupational exposure to respirable crystalline silica, a carcinogen, and to improve respiratory protection for all airborne hazards.

The public comment period for this proposed rule was scheduled to close on August 28, 2023, 45 days after publication of the proposed rule. MSHA received requests from commenters for both an extension of the comment period and for no extension of the comment period. Several requested that there not be any extension, so that a final rule can be promulgated without delay to prevent additional diseases among miners. Others requested that the comment period be extended to prepare comments, gather data and information, and address the questions MSHA raised in the proposal. Generally, those requesters asked for an additional 60, 90 or 120 days.

After reviewing these comments, MSHA has determined that it is appropriate to extend the public comment period until September 11, 2023, in order to provide stakeholders and interested parties an additional 15 days to review the proposal and prepare comments.

Authority and Signature

(Authority: 30 U.S.C. 811)

Dated: August 8, 2023.
Christopher J. Williamson,
Assistant Secretary of Labor for Mine Safety and Health.

[FR Doc. 2023-17370 Filed 8-11-23; 8:45 am]

BILLING CODE 4520-43-P